FEDERAL DEPOSIT INSURANCE CORPORATION

Privacy Act of 1974; System of Records

AGENCY: Federal Deposit Insurance Corporation.

ACTION: Notice of modified systems of records.

SUMMARY: In accordance with the Privacy Act of 1974, as amended, the Federal Deposit Insurance Corporation (FDIC) proposes to modify all FDIC systems of records to add a new routine use in compliance with new interagency information sharing requirements established in Executive Order 14243, Stopping Waste, Fraud, and Abuse by Eliminating Information Silos. The FDIC also proposes to modify seven FDIC systems of records to add a new routine use to share information with the Department of the Treasury as required by Executive Order 14249, Protecting America's Bank Account Against Fraud, Waste, and Abuse. Finally, the FDIC is modifying two FDIC systems of records titled FDIC-30-64-0014, Personnel Benefits and Enrollment Records, and FDIC-30-64-0021, Fitness Center Records, to make changes required by Executive Order 14168, Defending Women from Gender Ideology Extremism and Restoring Biological Truth to the Federal Government. The FDIC is also renumbering certain systems of records to align with a new numbering scheme.

DATES: Written comments should be submitted on or before December 17, 2025. The routine uses in this action will become effective on December 17, 2025.

ADDRESSES: Written comments may be submitted via any of the following methods:

• Agency Website: https://www.fdic.gov/resources/regulations/federal-register-publications. Follow the instructions for submitting comments on the FDIC website.

• Email: Comments@fdic.gov. Include “Comments—SORN Modifications” in the subject line of communication.

• Mail: Jennifer M. Jones, Deputy Executive Secretary, Attention: Comments-SORN Modifications, Legal Division, Office of the Executive Secretary, Federal Deposit Insurance Corporation, 550 17th Street NW, Washington, DC 20429.

• Public Inspection: Comments received, including any personal information provided, may be posted without change to https://www.fdic.gov/resources/regulations/federal-register-publications/. Commenters should submit only information that the commenter wishes to make available publicly. The FDIC may review, redact, or refrain from posting all or any portion of any comment that it may deem to be inappropriate for publication, such as irrelevant or obscene material. The FDIC may post only a single representative example of identical or substantially identical comments, and in such cases will generally identify the number of identical or substantially identical comments represented by the posted example. All comments that have been redacted, as well as those that have not been posted, that contain comments on the merits of this document will be retained in the public comment file and will be considered as required under all applicable laws. All comments may be accessible under the Freedom of Information Act (FOIA).

FOR FURTHER INFORMATION CONTACT: Shannon Dahn, Assistant Director, Privacy Program, 703-516-5500, privacy@fdic.gov.

SUPPLEMENTARY INFORMATION:

Proposal for New Routine Use Pursuant to Executive Order 14243

On March 20, 2025, the President signed Executive Order (E.O.) 14243, Stopping Waste, Fraud, and Abuse by Eliminating Information Silos, which seeks to remove “unnecessary barriers to Federal employees accessing Government data and promoting inter-agency data sharing” to help “eliminat[e] bureaucratic duplication and inefficiency while enhancing the Government's ability to detect overpayments and fraud.” The E.O. directs agencies to take all necessary steps to “ensure Federal officials designated by the President or Agency Heads . . . have full and prompt access to all unclassified agency records, data, software systems, and information technology systems . . . for purposes of pursuing Administration priorities related to the identification and elimination of waste, fraud, and abuse. This includes authorizing and facilitating both the intra- and inter-agency sharing and consolidation of unclassified agency records.”

Section 3(b) of E.O. 14243 requires agencies to review their Privacy Act systems of records notices (SORNs) and modify guidance that serves as a barrier to the interagency sharing of unclassified information mandated by the E.O. After conducting a review, the FDIC now proposes to add the following routine use: “To Federal agencies, and to those Federal employees designated by the President or Agency Heads pursuant to Executive Order 14243, for the purposes of identifying and eliminating waste, fraud, and abuse, including the elimination of bureaucratic duplication and inefficiency and the enhancement of the Government's ability to detect overpayments and fraud.” This notice proposes to modify the “ROUTINE USES” section to add this new routine use to all FDIC SORNs, listed below:

FDIC-30-64-0001, Honors Attorney Applicant Records

FDIC-30-64-0002, Financial Institutions Investigative and Enforcement Records

FDIC-30-64-0003, Administrative and Personnel Action Records

FDIC-30-64-0004, Changes in Financial Institution Control Ownership Records

FDIC-30-64-0005, Consumer Complaint and Inquiry Records

FDIC-30-64-0006, Employee Financial Disclosure Records

FDIC-30-64-0007, FDIC Learning and Development Records

FDIC-30-64-0008, Chain Banking Organizations Identification Records

FDIC-30-64-0009, Safety and Security Incident Records

FDIC-010, Investigative Files of the Office of Inspector General

FDIC-30-64-0011, Corporate Applicant Recruiting, Evaluating, and Electronic Referral Records

FDIC-30-64-0012, Financial Information Management Records

FDIC-013, Financial Institution Resolution and Receivership Records

FDIC-30-64-0014, Personnel Benefits and Enrollment Records

FDIC-30-64-0015, Personnel Records

FDIC-30-64-0016, Professional Qualification Records for Municipal Securities Dealers, Securities Representatives, and U.S. Government Securities Broker/Dealers

FDIC-30-64-0017, Employee Medical and Health Assessment Records

FDIC-30-64-0018, Grievance Records

FDIC-30-64-0019, Potential Bidders List

FDIC-30-64-0020, Telephone Call Detail Records

FDIC-30-64-0021, Fitness Center Records

FDIC-30-64-0022, Freedom of Information Act and Privacy Act Request Records

FDIC-30-64-0023, Affordable Housing Program Records

FDIC-024, Unclaimed Deposit Account Records

FDIC-30-64-0025, Beneficial Ownership Filings

FDIC-30-64-0026, Transit Subsidy Program Records

FDIC-30-64-0027, Parking Program Records

FDIC-30-64-0028, Office of the Chairman Correspondence Records

FDIC-30-64-0029, Congressional Correspondence Records

FDIC-30-64-0030, Legislative Information Tracking System Records

FDIC-30-64-0031, Online Ordering Request Records

FDIC-30-64-0033, Emergency Notification Records

FDIC-30-64-0034, Office of Inspector General Inquiry Records

FDIC-30-64-0035, Identity, Credential, and Access Management Records

FDIC-036, Ensuring Workplace Health and Safety in Response to a Public Health Emergency

FDIC-037, FDITech Information

FDIC-038, Failed Insured Depository Institution Research

FDIC-039, E-Rulemaking

FDIC-040, Mailing, Event, and Other Contact Lists

FDIC-041, Personal Information Allowing Network Operations

FDIC-042, Insider Risk Program Records

This notice also modifies the “SYSTEM NAME AND NUMBER” section for only those FDIC System of Records Notices listed above that continue to use the old system number format, which is “FDIC-30-64-####.”

Proposal for New Routine Use Pursuant to Executive Order 14249

On March 25, 2025, the President signed E.O. 14249, Protecting America's Bank Account Against Fraud, Waste, and Abuse, which recognizes the Treasury Department's role as the largest financial payment manager of the Federal Government and its responsibility for safeguarding the General Fund. One of the E.O.'s stated objectives is to “enable[e] the Department of the Treasury to more easily conduct improper payment and fraud prevention screening prior to disbursing funds on behalf of agencies.” The E.O. also mandates that agencies make accessible to the Treasury Department “data necessary for the purposes of detecting and preventing fraud and improper payments, as well as data for payment information verification.” Section 4(d) of E.O. 14249 requires agencies to modify appropriate Privacy Act SORNs to include a routine use that “allows for the disclosure of records to the Department of the Treasury for the purposes of identifying, preventing, or recouping fraud and improper payments, to the extent permissible by law.”

On August 20, 2025, the Office of Management and Budget (OMB) issued guidance to help agencies implement section 4(d) of the E.O. and “to strengthen the Executive Branch's capacity and flexibility to prevent improper payments while preserving important safeguards under the Privacy Act of 1974.” See OMB Memorandum M-25-32, Preventing Improper Payments and Protecting Privacy Through Do Not Pay. This guidance required agencies to review and identify which of their Privacy Act systems of records maintained information about applicants for or recipients of Federal funds agencies use to make eligibility determinations for payments to beneficiaries, award and loan recipients, vendors, contractors, and other payees, and to determine which of those systems of records should disclose information to the Treasury Department through the Do Not Pay Working System to support the identification, prevention, or recouping of improper payments.

After a review, the FDIC determined the following FDIC systems of records met the criteria outlined in OMB M-25-32 and required the sharing of information with the Treasury Department's Do Not Pay Working System:

FDIC-30-64-0012, Financial Information Management Records

FDIC-013, Financial Institution Resolution and Receivership Records

FDIC-30-64-0014, Personnel Benefits and Enrollment Records

FDIC-30-64-0015, Personnel Records

FDIC-024, Unclaimed Deposit Account Records

FDIC-30-64-0026, Transit Subsidy Program Records

FDIC-30-64-0027, Parking Program Records

Accordingly, this notice proposes to modify the “ROUTINE USES” section of these SORNs to include a new routine use that reads: “To the U.S. Department of the Treasury when disclosure of the information is relevant to review payment and award eligibility through the Do Not Pay Working System for the purposes of identifying, preventing, or recouping improper payments to an applicant for, or recipient of, Federal funds, including funds disbursed by a state (meaning a state of the United States, the District of Columbia, a territory or possession of the United States, or a federally recognized Indian tribe) in a state-administered, federally funded program.”

Modification to System of Records Pursuant to E.O. 14168

On January 20, 2025, the President signed E.O. 14168, Defending Women from Gender Ideology Extremism and Restoring Biological Truth to the Federal Government, which establishes the policy of the United States as recognizing two sexes, male and female. It defines various terms such as “sex,” “woman,” and “man,” and mandates their use in Federal policies and documents. E.O. 14168 directs Federal agencies to “use the term `sex' and not `gender' in all applicable Federal policies and documents.” Accordingly, the FDIC is modifying two Privacy Act SORNs that use the term “gender” to substitute the term “sex.” This notice therefore modifies the “CATEGORIES OF RECORDS” section of the following SORNs: FDIC-30-64-0014, Personnel Benefits and Enrollment Records, and FDIC-30-64-0021, Fitness Center Records.

In accordance with 5 U.S.C. 552a(r), the FDIC has provided a report to OMB and to Congress on this notice of modified systems of records.

FDIC-001

[Modify system number as follows:]

SYSTEM NAME AND NUMBER:

Honors Attorney Applicant Records, FDIC-001.

SECURITY CLASSIFICATION:

Unclassified.

SYSTEM LOCATION:

Legal Division, FDIC, 550 17th Street NW, Washington, DC 20429; and Atlanta Regional Office, FDIC, 10 Tenth Street, Suite 800, Atlanta, Georgia 30309.

SYSTEM MANAGER(S):

Assistant General Counsel, Open Bank Regional Affairs Section, Legal Division, FDIC, 550 17th Street NW, Washington, DC 20429.

* * * * *

ROUTINE USES OF RECORDS MAINTAINED IN THE SYSTEM, INCLUDING CATEGORIES OF USERS AND PURPOSES OF SUCH USES:

* * * * *

[Add routine use (12) as follows:]

(12) To Federal agencies, and to those Federal employees designated by the President or Agency Heads pursuant to Executive Order 14243, for the purposes of identifying and eliminating waste, fraud, and abuse, including the elimination of bureaucratic duplication and inefficiency and the enhancement of the Government's ability to detect overpayments and fraud.

* * * * *

HISTORY:

80 FR 66981 (Oct. 30, 2015), 84 FR 35184 (Jul. 22, 2019).

FDIC-002

[Modify system number as follows:]

SYSTEM NAME AND NUMBER:

Financial Institutions Investigative and Enforcement Records, FDIC-002.

SECURITY CLASSIFICATION:

Unclassified.

SYSTEM LOCATION:

Division of Risk Management Supervision, FDIC, 550 17th Street NW, Washington, DC 20429. Duplicate systems may exist, in whole or in part, at secure sites and on secure servers maintained by third-party service providers for the FDIC.

SYSTEM MANAGER(S):

Director, Division of Risk Management Supervision, FDIC, 550 17th Street NW, Washington, DC 20429.

* * * * *

ROUTINE USES OF RECORDS MAINTAINED IN THE SYSTEM, INCLUDING CATEGORIES OF USERS AND PURPOSES OF SUCH USES:

* * * * *

[Add routine use (15) as follows:]

(15) To Federal agencies, and to those Federal employees designated by the President or Agency Heads pursuant to Executive Order 14243, for the purposes of identifying and eliminating waste, fraud, and abuse, including the elimination of bureaucratic duplication and inefficiency and the enhancement of the Government's ability to detect overpayments and fraud.

* * * * *

HISTORY:

80 FR 66981 (Oct. 30, 2015), 84 FR 35184 (Jul. 22, 2019), 86 FR 19619 (Apr. 14, 2021).

FDIC-003

[Modify system number as follows:]

SYSTEM NAME AND NUMBER:

Administrative and Personnel Action Records, FDIC-003.

SECURITY CLASSIFICATION:

Unclassified.

SYSTEM LOCATION:

Legal Division, Executive Secretary Section, FDIC, 550 17th Street NW, Washington, DC 20429.

SYSTEM MANAGER(S):

Legal Division, Executive Secretary Section, FDIC, 550 17th Street NW, Washington, DC 20429.

* * * * *

ROUTINE USES OF RECORDS MAINTAINED IN THE SYSTEM, INCLUDING CATEGORIES OF USERS AND PURPOSES OF SUCH USES:

* * * * *

[Add routine use (12) as follows:]

(12) To Federal agencies, and to those Federal employees designated by the President or Agency Heads pursuant to Executive Order 14243, for the purposes of identifying and eliminating waste, fraud, and abuse, including the elimination of bureaucratic duplication and inefficiency and the enhancement of the Government's ability to detect overpayments and fraud.

* * * * *

HISTORY:

80 FR 66981 (Oct. 30, 2015), 84 FR 35184 (Jul. 22, 2019).

FDIC-004

[Modify system number as follows:]

SYSTEM NAME AND NUMBER:

Changes in Financial Institution Control Ownership Records, FDIC-004.

SECURITY CLASSIFICATION:

Unclassified.

SYSTEM LOCATION:

Division of Risk Management Supervision, FDIC, 550 17th Street NW, Washington, DC 20429. Duplicate systems may exist, in whole or in part, at secure sites and on secure servers maintained by third-party service providers for the FDIC.

SYSTEM MANAGER(S):

Director, Division of Risk Management Supervision, FDIC, 550 17th Street NW, Washington, DC 20429.

* * * * *

ROUTINE USES OF RECORDS MAINTAINED IN THE SYSTEM, INCLUDING CATEGORIES OF USERS AND PURPOSES OF SUCH USES:

* * * * *

[Add routine use (12) as follows:]

(12) To Federal agencies, and to those Federal employees designated by the President or Agency Heads pursuant to Executive Order 14243, for the purposes of identifying and eliminating waste, fraud, and abuse, including the elimination of bureaucratic duplication and inefficiency and the enhancement of the Government's ability to detect overpayments and fraud.

* * * * *

HISTORY:

80 FR 66981 (Oct. 30, 2015), 84 FR 35184 (Jul. 22, 2019).

FDIC-005

[Modify system number as follows:]

SYSTEM NAME AND NUMBER:

Consumer Complaint and Inquiry Records, FDIC-005.

SECURITY CLASSIFICATION:

Unclassified.

SYSTEM LOCATION:

Division of Depositor and Consumer Protection, FDIC, 550 17th Street NW, Washington, DC 20429, and FDIC Regional Offices for complaints or inquiries originating within or involving an FDIC-insured depository institution located in an FDIC region. (See www.fdic.gov/about/contact/directory or Appendix A for the location of FDIC Regional Offices.) Duplicate systems may exist, in whole or in part, at secure sites and on secure servers maintained by third-party service providers for the FDIC.

SYSTEM MANAGER(S):

Deputy Director, Consumer and Community Affairs, Division of Depositor and Consumer Protection, FDIC, 550 17th Street NW, Washington, DC 20429, or the Regional Director, Division of Supervision and Consumer Protection for records maintained in FDIC Regional Offices. (See www.fdic.gov/about/contact/directory or Appendix A for the location of FDIC Regional Offices.)

* * * * *

ROUTINE USES OF RECORDS MAINTAINED IN THE SYSTEM, INCLUDING CATEGORIES OF USERS AND PURPOSES OF SUCH USES:

* * * * *

[Add routine use (14) as follows:]

(14) To Federal agencies, and to those Federal employees designated by the President or Agency Heads pursuant to Executive Order 14243, for the purposes of identifying and eliminating waste, fraud, and abuse, including the elimination of bureaucratic duplication and inefficiency and the enhancement of the Government's ability to detect overpayments and fraud.

* * * * *

HISTORY:

80 FR 66981 (Oct. 30, 2015), 84 FR 35184 (Jul. 22, 2019).

FDIC-006

[Modify system number as follows:]

SYSTEM NAME AND NUMBER:

Employee Financial Disclosure Records, FDIC-006.

SECURITY CLASSIFICATION:

Unclassified.

SYSTEM LOCATION:

Records are located in FDIC Divisions and Offices to which individuals covered by the system are assigned. Duplicate copies of the records are located in the Legal Division, Executive Secretary Section, Ethics Unit, FDIC, 550 17th Street NW, Washington, DC 20429. (See www.fdic.gov/about/contact/directory or Appendix A for the location of FDIC Regional Offices.) Duplicate systems may exist, in whole or in part, at secure sites and on secure servers maintained by third-party service providers for the FDIC.

SYSTEM MANAGER(S):

Ethics Program Manager, Executive Secretary Section, Legal Division, FDIC, 550 17th Street NW, Washington, DC 20429.

* * * * *

ROUTINE USES OF RECORDS MAINTAINED IN THE SYSTEM, INCLUDING CATEGORIES OF USERS AND PURPOSES OF SUCH USES:

* * * * *

[Add routine use (10) as follows:]

(10) To Federal agencies, and to those Federal employees designated by the President or Agency Heads pursuant to Executive Order 14243, for the purposes of identifying and eliminating waste, fraud, and abuse, including the elimination of bureaucratic duplication and inefficiency and the enhancement of the Government's ability to detect overpayments and fraud.

* * * * *

HISTORY:

80 FR 66981 (Oct. 30, 2015), 84 FR 35184 (Jul. 22, 2019).

FDIC-007

[Modify system number as follows:]

SYSTEM NAME AND NUMBER:

FDIC Learning and Development Records, FDIC-007.

SECURITY CLASSIFICATION:

Unclassified.

SYSTEM LOCATION:

FDIC Corporate University, 3501 Fairfax Drive, Arlington, VA 22226, and FDIC Office of Inspector General, 3501 Fairfax Drive, Arlington, VA 22226. Duplicate systems may exist, in whole or in part, at secure sites and on secure servers maintained by third-party service providers for the FDIC.

SYSTEM MANAGER(S):

Assistant Director, Educational Support Services, Corporate University, FDIC, 3501 Fairfax Drive, Arlington, VA 22226; Deputy Assistant Inspector General for Management, Office of Inspector General, FDIC, 3501 Fairfax Drive, Arlington, VA 22226.

* * * * *

ROUTINE USES OF RECORDS MAINTAINED IN THE SYSTEM, INCLUDING CATEGORIES OF USERS AND PURPOSES OF SUCH USES:

* * * * *

[Add routine use (15) as follows:]

(15) To Federal agencies, and to those Federal employees designated by the President or Agency Heads pursuant to Executive Order 14243, for the purposes of identifying and eliminating waste, fraud, and abuse, including the elimination of bureaucratic duplication and inefficiency and the enhancement of the Government's ability to detect overpayments and fraud.

* * * * *

HISTORY:

80 FR 66981 (Oct. 30, 2015), 84 FR 35184 (Jul. 22, 2019).

FDIC-008

[Modify system number as follows:]

SYSTEM NAME AND NUMBER:

Chain Banking Organizations Identification Records, FDIC-008.

SECURITY CLASSIFICATION:

Unclassified.

SYSTEM LOCATION:

Division of Risk Management Supervision, FDIC, 550 17th Street NW, Washington, DC 20429, and FDIC Regional Offices. (See www.fdic.gov/about/contact/directory or Appendix A for the location of FDIC Regional Offices.) Duplicate systems may exist, in whole or in part, at secure sites and on secure servers maintained by third-party service providers for the FDIC.

SYSTEM MANAGER(S):

Director, Division of Risk Management Supervision, FDIC, 550 17th Street NW, Washington, DC 20429.

* * * * *

ROUTINE USES OF RECORDS MAINTAINED IN THE SYSTEM, INCLUDING CATEGORIES OF USERS AND PURPOSES OF SUCH USES:

* * * * *

[Add routine use (12) as follows:]

(12) To Federal agencies, and to those Federal employees designated by the President or Agency Heads pursuant to Executive Order 14243, for the purposes of identifying and eliminating waste, fraud, and abuse, including the elimination of bureaucratic duplication and inefficiency and the enhancement of the Government's ability to detect overpayments and fraud.

* * * * *

HISTORY:

80 FR 66981 (Oct. 30, 2015), 84 FR 35184 (Jul. 22, 2019).

FDIC-009

[Modify system number as follows:]

SYSTEM NAME AND NUMBER:

Safety and Security Incident Records, FDIC-009.

SECURITY CLASSIFICATION:

Unclassified.

SYSTEM LOCATION:

FDIC, Division of Administration, 550 17th Street NW, Washington, DC 20429, and FDIC Regional or area Offices. (See www.fdic.gov/about/contact/directory or Appendix A for the location of FDIC Regional Offices.) Duplicate systems may exist, in whole or in part, at secure sites and on secure servers maintained by third-party service providers for the FDIC.

SYSTEM MANAGER(S):

Chief, Security Operations, Security and Emergency Preparedness Section, Corporate Services Branch, Division of Administration, 3501 Fairfax Drive, Arlington, VA 22226.

* * * * *

ROUTINE USES OF RECORDS MAINTAINED IN THE SYSTEM, INCLUDING CATEGORIES OF USERS AND PURPOSES OF SUCH USES:

* * * * *

[Add routine use (11) as follows:]

(11) To Federal agencies, and to those Federal employees designated by the President or Agency Heads pursuant to Executive Order 14243, for the purposes of identifying and eliminating waste, fraud, and abuse, including the elimination of bureaucratic duplication and inefficiency and the enhancement of the Government's ability to detect overpayments and fraud.

* * * * *

HISTORY:

80 FR 66981 (Oct. 30, 2015), 84 FR 35184 (Jul. 22, 2019).

FDIC-010

SYSTEM NAME AND NUMBER:

Investigative Files of the Office of the Inspector General, FDIC-010.

SECURITY CLASSIFICATION:

Unclassified.

SYSTEM LOCATION:

FDIC Office of Inspector General (OIG), 3501 Fairfax Drive, Arlington, VA 22226. In addition, records are maintained in FDIC OIG field offices. FDIC OIG field office locations can be obtained by contacting the Assistant Inspector General for Investigations at said address. Original and duplicate systems may exist, in whole or in part, at secure sites and on secure servers maintained by third-party service providers for the FDIC OIG.

SYSTEM MANAGER(S):

Assistant Inspector General for Investigations, FDIC Office of Inspector General, 3501 Fairfax Drive, Arlington, VA 22226.

* * * * *

ROUTINE USES OF RECORDS MAINTAINED IN THE SYSTEM, INCLUDING CATEGORIES OF USERS AND PURPOSES OF SUCH USES:

* * * * *

[Add routine use (29) as follows:]

(29) To Federal agencies, and to those Federal employees designated by the President or Agency Heads pursuant to Executive Order 14243, for the purposes of identifying and eliminating waste, fraud, and abuse, including the elimination of bureaucratic duplication and inefficiency and the enhancement of the Government's ability to detect overpayments and fraud.

* * * * *

HISTORY:

80 FR 66981 (Oct. 30, 2015), 84 FR 35184 (Jul. 22, 2019), 84 FR 35184 (Apr. 28, 2023).

FDIC-011

[Modify system number as follows:]

SYSTEM NAME AND NUMBER:

Corporate Applicant Recruiting, Evaluating, and Electronic Referral Records, FDIC-011.

SECURITY CLASSIFICATION:

Unclassified.

SYSTEM LOCATION:

Human Resources Branch, Division of Administration, FDIC, 3501 Fairfax Drive, Arlington, VA 22226, and FDIC Office of Inspector General (OIG), 3501 Fairfax Drive, Arlington, VA 22226.

SYSTEM MANAGER(S):

Assistant Director, Information Systems and Services Section, Human Resources Branch, Division of Administration, FDIC, 3501 Fairfax Drive, Arlington, VA 22226; Deputy Assistant Inspector General for Management, Office of Inspector General, FDIC, 3501 Fairfax Drive, Arlington, VA 22226.

* * * * *

ROUTINE USES OF RECORDS MAINTAINED IN THE SYSTEM, INCLUDING CATEGORIES OF USERS AND PURPOSES OF SUCH USES:

* * * * *

[Add routine use (11) as follows:]

(11) To Federal agencies, and to those Federal employees designated by the President or Agency Heads pursuant to Executive Order 14243, for the purposes of identifying and eliminating waste, fraud, and abuse, including the elimination of bureaucratic duplication and inefficiency and the enhancement of the Government's ability to detect overpayments and fraud.

* * * * *

HISTORY:

80 FR 66981 (Oct. 30, 2015), 84 FR 35184 (Jul. 22, 2019).

FDIC-012

[Modify system number as follows:]

SYSTEM NAME AND NUMBER:

Financial Information Management Records, FDIC-012.

SECURITY CLASSIFICATION:

Unclassified.

SYSTEM LOCATION:

Division of Finance, FDIC, 3501 Fairfax Drive, Arlington, VA 22226. Records concerning garnishments, attachments, wage assignments and related records concerning FDIC employees are located with the Legal Division, FDIC, 3501 Fairfax Drive, Arlington, VA 22226. Some information, including travel and lodging reservations, is collected and maintained, on behalf of the FDIC by Sato Travel Services at 4601 N. Fairfax Drive, Suite 170, Arlington, VA 22203. Duplicate systems may exist, in whole or in part, at secure sites and on secure servers maintained by third-party service providers for the FDIC.

SYSTEM MANAGER(S):

Director, Division of Finance, FDIC, 3501 Fairfax Drive, Arlington, VA 22226. For records about FDIC employees concerning garnishments, attachments, wage assignments and related records, the system manager is the Legal Division, FDIC, 3501 Fairfax Drive, Arlington, VA 22226.

* * * * *

ROUTINE USES OF RECORDS MAINTAINED IN THE SYSTEM, INCLUDING CATEGORIES OF USERS AND PURPOSES OF SUCH USES:

* * * * *

[Add routine uses (15) and (16) as follows:]

(15) To Federal agencies, and to those Federal employees designated by the President or Agency Heads pursuant to Executive Order 14243, for the purposes of identifying and eliminating waste, fraud, and abuse, including the elimination of bureaucratic duplication and inefficiency and the enhancement of the Government's ability to detect overpayments and fraud.

(16) To the U.S. Department of the Treasury when disclosure of the information is relevant to review payment and award eligibility through the Do Not Pay Working System for the purposes of identifying, preventing, or recouping improper payments to an applicant for, or recipient of, Federal funds, including funds disbursed by a state (meaning a state of the United States, the District of Columbia, a territory or possession of the United States, or a federally recognized Indian tribe) in a state-administered, federally funded program.

* * * * *

HISTORY:

80 FR 66981 (Oct. 30, 2015), 84 FR 35184 (Jul. 22, 2019).

FDIC-013

SYSTEM NAME AND NUMBER:

Financial Institution Resolution and Receivership Records, FDIC-013.

SECURITY CLASSIFICATION:

Unclassified.

SYSTEM LOCATION:

Records are maintained at FDIC facilities in Washington, DC; Arlington, VA; and regional offices. Original and duplicate systems may exist, in whole or in part, at secure sites and on secure servers maintained by third-party service providers for the FDIC.

SYSTEM MANAGER(S):

Deputy Director, Division of Resolutions and Receiverships, FDIC, 550 17th Street NW, Washington, DC 20429; 600 North Pearl Street, Suite 700, Dallas, Texas 75201.

* * * * *

ROUTINE USES OF RECORDS MAINTAINED IN THE SYSTEM, INCLUDING CATEGORIES OF USERS AND PURPOSES OF SUCH USES:

* * * * *

[Add routine uses (19) and (20) as follows:]

(19) To Federal agencies, and to those Federal employees designated by the President or Agency Heads pursuant to Executive Order 14243, for the purposes of identifying and eliminating waste, fraud, and abuse, including the elimination of bureaucratic duplication and inefficiency and the enhancement of the Government's ability to detect overpayments and fraud.

(20) To the U.S. Department of the Treasury when disclosure of the information is relevant to review payment and award eligibility through the Do Not Pay Working System for the purposes of identifying, preventing, or recouping improper payments to an applicant for, or recipient of, Federal funds, including funds disbursed by a state (meaning a state of the United States, the District of Columbia, a territory or possession of the United States, or a federally recognized Indian tribe) in a state-administered, federally funded program.

* * * * *

HISTORY:

80 FR 66981 (Oct. 30, 2015), 84 FR 35184 (Jul. 22, 2019), 87 FR 66178 (Nov. 2, 2022).

FDIC-014

[Modify system number as follows:]

SYSTEM NAME AND NUMBER:

Personnel Benefits and Enrollment Records, FDIC-014.

SECURITY CLASSIFICATION:

Unclassified.

SYSTEM LOCATION:

Division of Administration, FDIC, 550 17th Street NW, Washington, DC 20429. For administrative purposes, duplicate systems may exist within the FDIC at the duty station of each employee. (See www.fdic.gov/about/contact/directory or Appendix A for the location of FDIC Regional Offices). The FDIC also has an interagency agreement with the U.S. Department of Agriculture, National Finance Center in New Orleans, Louisiana, to provide and maintain payroll, personnel, and related services and systems involving FDIC employees. The FDIC also has agreements with T. Rowe Price, Benefit Allocation Systems, and other benefit plan contractors to provide employee benefits and related administrative services.

SYSTEM MANAGER(S):

Deputy Director, Human Resources Branch, FDIC Division of Administration, 550 17th Street NW, Washington, DC 20429.

* * * * *

[Modify Categories of Records in the System as follows:]

CATEGORIES OF RECORDS IN THE SYSTEM:

This system contains general personnel and enrollment information for FDIC-sponsored flexible spending account (FSA) plans and insurance plans (life, dental, vision, or long-term disability). This may include information such as an individual's name, earnings, number and name of dependents, sex, date of birth, home address, social security number, employee locator information (including email and office addresses), claims for FSA reimbursements, and related correspondence.

* * * * *

ROUTINE USES OF RECORDS MAINTAINED IN THE SYSTEM, INCLUDING CATEGORIES OF USERS AND PURPOSES OF SUCH USES:

* * * * *

[Add routine uses (18) and (19) as follows:]

(18) To Federal agencies, and to those Federal employees designated by the President or Agency Heads pursuant to Executive Order 14243, for the purposes of identifying and eliminating waste, fraud, and abuse, including the elimination of bureaucratic duplication and inefficiency and the enhancement of the Government's ability to detect overpayments and fraud.

(19) To the U.S. Department of the Treasury when disclosure of the information is relevant to review payment and award eligibility through the Do Not Pay Working System for the purposes of identifying, preventing, or recouping improper payments to an applicant for, or recipient of, Federal funds, including funds disbursed by a state (meaning a state of the United States, the District of Columbia, a territory or possession of the United States, or a federally recognized Indian tribe) in a state-administered, federally funded program.

* * * * *

HISTORY:

80 FR 66981 (Oct. 30, 2015), 84 FR 35184 (Jul. 22, 2019).

FDIC-015

[Modify system number as follows:]

SYSTEM NAME AND NUMBER:

Personnel Records, FDIC-015.

SECURITY CLASSIFICATION:

Unclassified.

SYSTEM LOCATION:

Division of Administration, FDIC, 550 17th Street NW, Washington, DC 20429, and FDIC Office of Inspector General, 3501 Fairfax Drive, Arlington, VA 22226. For administrative purposes, duplicate systems may exist within the FDIC at the duty station of each employee. (See www.fdic.gov/about/contact/directory or Appendix A for the location of FDIC Regional Offices.) The FDIC also has an interagency agreement with the U.S. Department of Agriculture, National Finance Center in New Orleans, Louisiana, to provide and maintain payroll, personnel, and related services and systems involving FDIC employees.

SYSTEM MANAGER(S):

Deputy Director, Human Resources Branch, FDIC Division of Administration, 550 17th Street NW, Washington, DC 20429; Deputy Assistant Inspector General for Management, Office of Inspector General, FDIC, 3501 Fairfax Drive, Arlington, VA 22226.

* * * * *

ROUTINE USES OF RECORDS MAINTAINED IN THE SYSTEM, INCLUDING CATEGORIES OF USERS AND PURPOSES OF SUCH USES:

* * * * *

[Add routine uses (17) and (18) as follows:]

(17) To Federal agencies, and to those Federal employees designated by the President or Agency Heads pursuant to Executive Order 14243, for the purposes of identifying and eliminating waste, fraud, and abuse, including the elimination of bureaucratic duplication and inefficiency and the enhancement of the Government's ability to detect overpayments and fraud.

(18) To the U.S. Department of the Treasury when disclosure of the information is relevant to review payment and award eligibility through the Do Not Pay Working System for the purposes of identifying, preventing, or recouping improper payments to an applicant for, or recipient of, Federal funds, including funds disbursed by a state (meaning a state of the United States, the District of Columbia, a territory or possession of the United States, or a federally recognized Indian tribe) in a state-administered, federally funded program.

* * * * *

HISTORY:

80 FR 66981 (Oct. 30, 2015), 84 FR 35184 (Jul. 22, 2019).

FDIC-016

[Modify system number as follows:]

SYSTEM NAME AND NUMBER:

Professional Qualification Records for Municipal Securities Dealers, Securities Representatives, and U.S. Government Securities Broker/Dealers, FDIC-016.

SECURITY CLASSIFICATION:

Unclassified.

SYSTEM LOCATION:

Division of Risk Management Supervision, Risk Management Policy Branch, FDIC, 550 17th Street NW, Washington, DC 20429. Duplicate systems may exist, in whole or in part, at secure sites and on secure servers maintained by third-party service providers for the FDIC.

SYSTEM MANAGER(S):

Senior Examination Specialist—Trust, Risk Management Policy Branch, Division of Risk Management Supervision, FDIC, 550 17th Street NW, Washington, DC 20429.

* * * * *

ROUTINE USES OF RECORDS MAINTAINED IN THE SYSTEM, INCLUDING CATEGORIES OF USERS AND PURPOSES OF SUCH USES:

* * * * *

[Add routine use (16) as follows:]

(16) To Federal agencies, and to those Federal employees designated by the President or Agency Heads pursuant to Executive Order 14243, for the purposes of identifying and eliminating waste, fraud, and abuse, including the elimination of bureaucratic duplication and inefficiency and the enhancement of the Government's ability to detect overpayments and fraud.

* * * * *

HISTORY:

80 FR 66981 (Oct. 30, 2015), 84 FR 35184 (Jul. 22, 2019).

FDIC-017

[Modify system number as follows:]

SYSTEM NAME AND NUMBER:

Employee Medical and Health Assessment Records, FDIC-017.

SECURITY CLASSIFICATION:

Unclassified.

SYSTEM LOCATION:

Health Unit, Corporate Services Branch, Division of Administration, FDIC, located at the following addresses: 550 17th Street NW, Washington, DC 20429; 3501 Fairfax Drive, Arlington, VA 22226; 1310 Courthouse Road, Arlington, VA 22226; and Health Units located in FDIC Regional Offices; and FDIC Office of Inspector General, 3501 Fairfax Drive, Arlington, VA 22226. (See www.fdic.gov/about/contact/directory or Appendix A for the location of FDIC Regional Offices.)

SYSTEM MANAGER(S):

Health, Safety and Environmental Program Manager, Corporate Services Branch, Division of Administration, FDIC, 3501 Fairfax Drive, Arlington, VA 22226; Deputy Assistant Inspector General for Management, Office of Inspector General, FDIC, 3501 Fairfax Drive, Arlington, VA 22226.

* * * * *

ROUTINE USES OF RECORDS MAINTAINED IN THE SYSTEM, INCLUDING CATEGORIES OF USERS AND PURPOSES OF SUCH USES:

* * * * *

[Add routine use (16) as follows:]

(16) To Federal agencies, and to those Federal employees designated by the President or Agency Heads pursuant to Executive Order 14243, for the purposes of identifying and eliminating waste, fraud, and abuse, including the elimination of bureaucratic duplication and inefficiency and the enhancement of the Government's ability to detect overpayments and fraud.

* * * * *

HISTORY:

80 FR 66981 (Oct. 30, 2015), 84 FR 35184 (Jul. 22, 2019).

FDIC-018

[Modify system number as follows:]

SYSTEM NAME AND NUMBER:

Grievance Records, FDIC-018.

SECURITY CLASSIFICATION:

Unclassified.

SYSTEM LOCATION:

Human Resources Branch, Division of Administration, FDIC, 3501 Fairfax Drive, Arlington, VA 22226; and FDIC Office of Inspector General, 3501 Fairfax Drive, Arlington, VA 22226. Records at the regional level generated through grievance procedures negotiated with recognized labor organizations are located in the FDIC Regional Office where originated. (See www.fdic.gov/about/contact/directory or Appendix A for the location of FDIC Regional Offices.) For non-headquarters employees, duplicate copies may be maintained by the Human Resources Branch, Division of Administration, Arlington, VA for the purpose of coordinating grievance and arbitration proceedings.

SYSTEM MANAGER(S):

Deputy Director of Personnel, Human Resources Branch, Division of Administration, FDIC, 3501 Fairfax Drive, Arlington, VA 22226; Deputy Assistant Inspector General for Management, Office of Inspector General, FDIC, 3501 Fairfax Drive, Arlington, VA 22226. The appropriate FDIC Regional Director for records maintained in FDIC Regional Offices. (See www.fdic.gov/about/contact/directory or Appendix A for the location of FDIC Regional Offices.)

* * * * *

ROUTINE USES OF RECORDS MAINTAINED IN THE SYSTEM, INCLUDING CATEGORIES OF USERS AND PURPOSES OF SUCH USES:

* * * * *

[Add routine use (12) as follows:]

(12) To Federal agencies, and to those Federal employees designated by the President or Agency Heads pursuant to Executive Order 14243, for the purposes of identifying and eliminating waste, fraud, and abuse, including the elimination of bureaucratic duplication and inefficiency and the enhancement of the Government's ability to detect overpayments and fraud.

* * * * *

HISTORY:

80 FR 66981 (Oct. 30, 2015), 84 FR 35184 (Jul. 22, 2019).

FDIC-019

[Modify system number as follows:]

SYSTEM NAME AND NUMBER:

Potential Bidders List, FDIC-019.

SECURITY CLASSIFICATION:

Unclassified.

SYSTEM LOCATION:

Division of Resolutions and Receiverships, FDIC, 550 17th Street NW, Washington, DC 20429; and Field Operations Branch, Division of Resolutions and Receiverships, FDIC, 1601 Bryan Street, Dallas, Texas 75201. Duplicate systems may exist, in whole or in part, at secure sites and on secure servers maintained by third-party service providers for the FDIC.

SYSTEM MANAGER(S):

Director, Division of Resolutions and Receiverships, FDIC, 550 17th Street NW, Washington DC 20429.

* * * * *

ROUTINE USES OF RECORDS MAINTAINED IN THE SYSTEM, INCLUDING CATEGORIES OF USERS AND PURPOSES OF SUCH USES:

* * * * *

[Add routine use (12) as follows:]

(12) To Federal agencies, and to those Federal employees designated by the President or Agency Heads pursuant to Executive Order 14243, for the purposes of identifying and eliminating waste, fraud, and abuse, including the elimination of bureaucratic duplication and inefficiency and the enhancement of the Government's ability to detect overpayments and fraud.

* * * * *

HISTORY:

80 FR 66981 (Oct. 30, 2015), 84 FR 35184 (Jul. 22, 2019).

FDIC-020

[Modify system number as follows:]

SYSTEM NAME AND NUMBER:

Telephone Call Detail Records, FDIC-020.

SECURITY CLASSIFICATION:

Unclassified.

SYSTEM LOCATION:

Division of Information Technology, FDIC, 3501 Fairfax Drive, Arlington, VA 22226.

SYSTEM MANAGER(S):

Assistant Director, Operations Section, Infrastructure Services Branch, Division of Information Technology, FDIC, 3501 Fairfax Drive, Arlington, VA 22226.

* * * * *

ROUTINE USES OF RECORDS MAINTAINED IN THE SYSTEM, INCLUDING CATEGORIES OF USERS AND PURPOSES OF SUCH USES:

* * * * *

[Add routine use (13) as follows:]

(13) To Federal agencies, and to those Federal employees designated by the President or Agency Heads pursuant to Executive Order 14243, for the purposes of identifying and eliminating waste, fraud, and abuse, including the elimination of bureaucratic duplication and inefficiency and the enhancement of the Government's ability to detect overpayments and fraud.

* * * * *

HISTORY:

80 FR 66981 (Oct. 30, 2015), 84 FR 35184 (Jul. 22, 2019).

FDIC-021

[Modify system number as follows:]

SYSTEM NAME AND NUMBER:

Fitness Center Records, FDIC-021.

SECURITY CLASSIFICATION:

Unclassified.

SYSTEM LOCATION:

Fitness Centers, Corporate Services Branch, Division of Administration, FDIC, 3501 Fairfax Drive, Arlington, VA 22226, and 550 17th Street NW, Washington, DC 20429.

SYSTEM MANAGER(S):

Health, Safety and Environmental Program Manager, Acquisition and Corporate Services Branch, Division of Administration, FDIC, 3501 Fairfax Drive, Arlington, VA 22226.

* * * * *

[Modify Categories of Records in the System as follows:]

CATEGORIES OF RECORDS IN THE SYSTEM:

Contains the individual's name, sex, age; fitness assessment results; identification of certain medical conditions; and the name and phone number of the individual's personal physician and emergency contact.

* * * * *

ROUTINE USES OF RECORDS MAINTAINED IN THE SYSTEM, INCLUDING CATEGORIES OF USERS AND PURPOSES OF SUCH USES:

* * * * *

[Add routine use (13) as follows:]

(13) To Federal agencies, and to those Federal employees designated by the President or Agency Heads pursuant to Executive Order 14243, for the purposes of identifying and eliminating waste, fraud, and abuse, including the elimination of bureaucratic duplication and inefficiency and the enhancement of the Government's ability to detect overpayments and fraud.

* * * * *

HISTORY:

80 FR 66981 (Oct. 30, 2015), 84 FR 35184 (Jul. 22, 2019).

FDIC-022

[Modify system number as follows:]

SYSTEM NAME AND NUMBER:

Freedom of Information Act and Privacy Act Request Records, FDIC-022.

SECURITY CLASSIFICATION:

Unclassified.

SYSTEM LOCATION:

Legal Division, FOIA & Privacy Act Group, FDIC, 550 17th Street NW, Washington, DC 20429.

SYSTEM MANAGER(S):

Legal Division, FOIA & Privacy Act Group, FDIC, 550 17th Street NW, Washington, DC 20429.

* * * * *

ROUTINE USES OF RECORDS MAINTAINED IN THE SYSTEM, INCLUDING CATEGORIES OF USERS AND PURPOSES OF SUCH USES:

* * * * *

[Add routine use (11) as follows:]

(11) To Federal agencies, and to those Federal employees designated by the President or Agency Heads pursuant to Executive Order 14243, for the purposes of identifying and eliminating waste, fraud, and abuse, including the elimination of bureaucratic duplication and inefficiency and the enhancement of the Government's ability to detect overpayments and fraud.

* * * * *

HISTORY:

80 FR 66981 (Oct. 30, 2015), 84 FR 35184 (Jul. 22, 2019).

FDIC-023

[Modify system number as follows:]

SYSTEM NAME AND NUMBER:

Affordable Housing Program Records, FDIC-023.

SECURITY CLASSIFICATION:

Unclassified.

SYSTEM LOCATION:

Division of Resolutions and Receiverships, FDIC, 550 17th Street NW, Washington, DC 20429.

SYSTEM MANAGER(S):

Supervisory Resolutions and Receiverships Specialist, Operations Branch, Division of Resolutions and Receiverships, FDIC, 550 17th Street NW, Washington, DC 20429. Duplicate systems may exist, in whole or in part, at secure sites and on secure servers maintained by third-party service providers for the FDIC.

* * * * *

ROUTINE USES OF RECORDS MAINTAINED IN THE SYSTEM, INCLUDING CATEGORIES OF USERS AND PURPOSES OF SUCH USES:

* * * * *

[Add routine use (12) as follows:]

(12) To Federal agencies, and to those Federal employees designated by the President or Agency Heads pursuant to Executive Order 14243, for the purposes of identifying and eliminating waste, fraud, and abuse, including the elimination of bureaucratic duplication and inefficiency and the enhancement of the Government's ability to detect overpayments and fraud.

* * * * *

HISTORY:

80 FR 66981 (Oct. 30, 2015), 84 FR 35184 (Jul. 22, 2019).

FDIC-024

SYSTEM NAME AND NUMBER:

Unclaimed Deposit Account Records, FDIC-024.

SECURITY CLASSIFICATION:

Unclassified.

SYSTEM LOCATION:

Records are maintained at FDIC facilities in Arlington, Virginia and regional offices. Original and duplicate systems may exist, in whole or in part, at secure sites and on secure servers maintained by third-party service providers for the FDIC.

SYSTEM MANAGER(S):

Financial Managers, Division of Resolutions and Receiverships, FDIC, 550 17th Street NW, Washington, DC 20429, and 600 North Pearl Street, Suite 700, Dallas, Texas 75201.

* * * * *

ROUTINE USES OF RECORDS MAINTAINED IN THE SYSTEM, INCLUDING CATEGORIES OF USERS AND PURPOSES OF SUCH USES:

* * * * *

[Add routine uses (13) and (14) as follows:]

(13) To Federal agencies, and to those Federal employees designated by the President or Agency Heads pursuant to Executive Order 14243, for the purposes of identifying and eliminating waste, fraud, and abuse, including the elimination of bureaucratic duplication and inefficiency and the enhancement of the Government's ability to detect overpayments and fraud.

(14) To the U.S. Department of the Treasury when disclosure of the information is relevant to review payment and award eligibility through the Do Not Pay Working System for the purposes of identifying, preventing, or recouping improper payments to an applicant for, or recipient of, Federal funds, including funds disbursed by a state (meaning a state of the United States, the District of Columbia, a territory or possession of the United States, or a federally recognized Indian tribe) in a state-administered, federally funded program.

* * * * *

HISTORY:

80 FR 66981 (Oct. 30, 2015), 84 FR 35184 (Jul. 22, 2019); 87 FR 66181 (Nov. 2, 2022).

FDIC-025

[Modify system number as follows:]

SYSTEM NAME AND NUMBER:

Beneficial Ownership Filings, FDIC-025.

SECURITY CLASSIFICATION:

Unclassified.

SYSTEM LOCATION:

Division of Risk Management Supervision, FDIC, 550 17th Street NW, Washington, DC 20429. Duplicate systems may exist, in whole or in part, at secure sites and on secure servers maintained by third-party service providers for the FDIC.

SYSTEM MANAGER(S):

Chief, Accounting & Securities Disclosure Section, Division of Risk Management Supervision, FDIC, 550 17th Street NW, Washington, DC 20429.

* * * * *

ROUTINE USES OF RECORDS MAINTAINED IN THE SYSTEM, INCLUDING CATEGORIES OF USERS AND PURPOSES OF SUCH USES:

* * * * *

[Add routine use (12) as follows:]

(12) To Federal agencies, and to those Federal employees designated by the President or Agency Heads pursuant to Executive Order 14243, for the purposes of identifying and eliminating waste, fraud, and abuse, including the elimination of bureaucratic duplication and inefficiency and the enhancement of the Government's ability to detect overpayments and fraud.

* * * * *

HISTORY:

80 FR 66981 (Oct. 30, 2015), 84 FR 35184 (Jul. 22, 2019).

FDIC-026

[Modify system number as follows:]

SYSTEM NAME AND NUMBER:

Transit Subsidy Program Records, FDIC-026.

SECURITY CLASSIFICATION:

Unclassified.

SYSTEM LOCATION:

Division of Administration, FDIC, 550 17th Street NW, Washington, DC 20429 and the FDIC Regional Offices. (See www.fdic.gov/about/contact/directory or Appendix A for the location of FDIC Regional Offices.) Records for FDIC Headquarters and all Regional Offices are also housed electronically at the U.S. Department of Transportation, 1200 New Jersey Avenue SE, Washington, DC 20590.

SYSTEM MANAGER(S):

Lead, Transportation Unit, Security and Emergency Preparedness Section, Corporate Services Branch, Division of Administration, 3501 Fairfax Drive, Arlington, VA 22226.

* * * * *

ROUTINE USES OF RECORDS MAINTAINED IN THE SYSTEM, INCLUDING CATEGORIES OF USERS AND PURPOSES OF SUCH USES:

* * * * *

[Add routine uses (11) and (12) as follows:]

(11) To Federal agencies, and to those Federal employees designated by the President or Agency Heads pursuant to Executive Order 14243, for the purposes of identifying and eliminating waste, fraud, and abuse, including the elimination of bureaucratic duplication and inefficiency and the enhancement of the Government's ability to detect overpayments and fraud.

(12) To the U.S. Department of the Treasury when disclosure of the information is relevant to review payment and award eligibility through the Do Not Pay Working System for the purposes of identifying, preventing, or recouping improper payments to an applicant for, or recipient of, Federal funds, including funds disbursed by a state (meaning a state of the United States, the District of Columbia, a territory or possession of the United States, or a federally recognized Indian tribe) in a state-administered, federally funded program.

* * * * *

HISTORY:

80 FR 66981 (Oct. 30, 2015), 84 FR 35184 (Jul. 22, 2019).

FDIC-027

[Modify system number as follows:]

SYSTEM NAME AND NUMBER:

Parking Program Records, FDIC-027.

SECURITY CLASSIFICATION:

Unclassified.

SYSTEM LOCATION:

Division of Administration, FDIC, 550 17th Street NW, Washington, DC 20429 and Regional Offices with FDIC parking facilities. (See www.fdic.gov/about/contact/directory or Appendix A for the location of FDIC Regional Offices.)

SYSTEM MANAGER(S):

Lead, Transportation Unit, Security and Emergency Preparedness Section, Corporate Services Branch, Division of Administration, 3501 Fairfax Drive, Arlington, VA 22226.

* * * * *

ROUTINE USES OF RECORDS MAINTAINED IN THE SYSTEM, INCLUDING CATEGORIES OF USERS AND PURPOSES OF SUCH USES:

* * * * *

[Add routine uses (11) and (12) as follows:]

(11) To Federal agencies, and to those Federal employees designated by the President or Agency Heads pursuant to Executive Order 14243, for the purposes of identifying and eliminating waste, fraud, and abuse, including the elimination of bureaucratic duplication and inefficiency and the enhancement of the Government's ability to detect overpayments and fraud.

(12) To the U.S. Department of the Treasury when disclosure of the information is relevant to review payment and award eligibility through the Do Not Pay Working System for the purposes of identifying, preventing, or recouping improper payments to an applicant for, or recipient of, Federal funds, including funds disbursed by a state (meaning a state of the United States, the District of Columbia, a territory or possession of the United States, or a federally recognized Indian tribe) in a state-administered, federally funded program.

* * * * *

HISTORY:

80 FR 66981 (Oct. 30, 2015), 84 FR 35184 (Jul. 22, 2019).

FDIC-028

[Modify system number as follows:]

SYSTEM NAME AND NUMBER:

Office of the Chairman Correspondence Records, FDIC-028.

SECURITY CLASSIFICATION:

Unclassified.

SYSTEM LOCATION:

FDIC, Office of Legislative Affairs, 550 17th Street NW, Washington, DC 20429.

SYSTEM MANAGER(S):

Office of Legislative Affairs, 550 17th Street NW, Washington, DC 20429.

* * * * *

ROUTINE USES OF RECORDS MAINTAINED IN THE SYSTEM, INCLUDING CATEGORIES OF USERS AND PURPOSES OF SUCH USES:

* * * * *

[Add routine use (12) as follows:]

(12) To Federal agencies, and to those Federal employees designated by the President or Agency Heads pursuant to Executive Order 14243, for the purposes of identifying and eliminating waste, fraud, and abuse, including the elimination of bureaucratic duplication and inefficiency and the enhancement of the Government's ability to detect overpayments and fraud.

* * * * *

HISTORY:

80 FR 66981 (Oct. 30, 2015), 84 FR 35184 (Jul. 22, 2019).

FDIC-029

[Modify system number as follows:]

SYSTEM NAME AND NUMBER:

Congressional Correspondence Records, FDIC-029.

SECURITY CLASSIFICATION:

Unclassified.

SYSTEM LOCATION:

FDIC, Office of Legislative Affairs, 550 17th Street NW, Washington, DC 20429.

SYSTEM MANAGER(S):

Office of Legislative Affairs, 550 17th Street NW, Washington, DC 20429.

* * * * *

ROUTINE USES OF RECORDS MAINTAINED IN THE SYSTEM, INCLUDING CATEGORIES OF USERS AND PURPOSES OF SUCH USES:

* * * * *

[Add routine use (13) as follows:]

(13) To Federal agencies, and to those Federal employees designated by the President or Agency Heads pursuant to Executive Order 14243, for the purposes of identifying and eliminating waste, fraud, and abuse, including the elimination of bureaucratic duplication and inefficiency and the enhancement of the Government's ability to detect overpayments and fraud.

* * * * *

HISTORY:

80 FR 66981 (Oct. 30, 2015), 84 FR 35184 (Jul. 22, 2019).

FDIC-030

[Modify system number as follows:]

SYSTEM NAME AND NUMBER:

Legislative Information Tracking Records, FDIC-030.

SECURITY CLASSIFICATION:

Unclassified.

SYSTEM LOCATION:

FDIC, Office of Legislative Affairs, 550 17th Street NW, Washington, DC 20429.

SYSTEM MANAGER(S):

Office of Legislative Affairs, 550 17th Street NW, Washington, DC 20429.

* * * * *

ROUTINE USES OF RECORDS MAINTAINED IN THE SYSTEM, INCLUDING CATEGORIES OF USERS AND PURPOSES OF SUCH USES:

* * * * *

[Add routine use (13) as follows:]

(13) To Federal agencies, and to those Federal employees designated by the President or Agency Heads pursuant to Executive Order 14243, for the purposes of identifying and eliminating waste, fraud, and abuse, including the elimination of bureaucratic duplication and inefficiency and the enhancement of the Government's ability to detect overpayments and fraud.

* * * * *

HISTORY:

80 FR 66981 (Oct. 30, 2015), 84 FR 35184 (Jul. 22, 2019).

FDIC-031

[Modify system number as follows:]

SYSTEM NAME AND NUMBER:

Online Ordering Request Records, FDIC-031.

SECURITY CLASSIFICATION:

Unclassified.

SYSTEM LOCATION:

These electronic records are collected in a web-based system located at a secure site and on secure servers maintained by a contractor for the FDIC, Division of Administration, 550 17th Street NW, Washington, DC 20429.

SYSTEM MANAGER(S):

Assistant Director, Library & Public Information Center, Corporate Services Branch, Division of Administration, FDIC, 550 17th Street NW, Washington, DC 20429.

* * * * *

ROUTINE USES OF RECORDS MAINTAINED IN THE SYSTEM, INCLUDING CATEGORIES OF USERS AND PURPOSES OF SUCH USES:

* * * * *

[Add routine use (8) as follows:]

(8) To Federal agencies, and to those Federal employees designated by the President or Agency Heads pursuant to Executive Order 14243, for the purposes of identifying and eliminating waste, fraud, and abuse, including the elimination of bureaucratic duplication and inefficiency and the enhancement of the Government's ability to detect overpayments and fraud.

* * * * *

HISTORY:

80 FR 66981 (Oct. 30, 2015), 84 FR 35184 (Jul. 22, 2019).

FDIC-033

[Modify system number as follows:]

SYSTEM NAME AND NUMBER:

Emergency Notification Records, FDIC-033.

SECURITY CLASSIFICATION:

Unclassified.

SYSTEM LOCATION:

Division of Administration, FDIC, 550 17th Street NW, Washington, DC 20429 or FDIC Regional Offices (See www.fdic.gov/about/contact/directory or Appendix A for the location of FDIC Regional Offices.) Duplicate systems may exist, in whole or in part, at secure sites and on secure servers maintained by third-party service providers for the FDIC.

SYSTEM MANAGER(S):

Associate Director, FDIC Division of Administration, Security and Emergency Preparedness Section, 550 17th Street NW, Washington, DC 20429.

* * * * *

ROUTINE USES OF RECORDS MAINTAINED IN THE SYSTEM, INCLUDING CATEGORIES OF USERS AND PURPOSES OF SUCH USES:

* * * * *

[Add routine use (10) as follows:]

(10) To Federal agencies, and to those Federal employees designated by the President or Agency Heads pursuant to Executive Order 14243, for the purposes of identifying and eliminating waste, fraud, and abuse, including the elimination of bureaucratic duplication and inefficiency and the enhancement of the Government's ability to detect overpayments and fraud.

* * * * *

HISTORY:

80 FR 66981 (Oct. 30, 2015), 84 FR 35184 (Jul. 22, 2019).

FDIC-034

[Modify system number as follows:]

SYSTEM NAME AND NUMBER:

Office of Inspector General Inquiry Records, FDIC-034.

SECURITY CLASSIFICATION:

Unclassified.

SYSTEM LOCATION:

FDIC Office of Inspector General (OIG), 3501 Fairfax Drive, Arlington, VA 22226.

SYSTEM MANAGER(S):

FDIC Inspector General, 3501 Fairfax Drive, Arlington, VA 22226.

* * * * *

ROUTINE USES OF RECORDS MAINTAINED IN THE SYSTEM, INCLUDING CATEGORIES OF USERS AND PURPOSES OF SUCH USES:

* * * * *

[Add routine use (17) as follows:]

(17) To Federal agencies, and to those Federal employees designated by the President or Agency Heads pursuant to Executive Order 14243, for the purposes of identifying and eliminating waste, fraud, and abuse, including the elimination of bureaucratic duplication and inefficiency and the enhancement of the Government's ability to detect overpayments and fraud.

* * * * *

HISTORY:

80 FR 66981 (Oct. 30, 2015), 84 FR 35184 (Jul. 22, 2019).

FDIC-035

[Modify system number as follows:]

SYSTEM NAME AND NUMBER:

Identity, Credential, and Access Management Records, FDIC-035.

SECURITY CLASSIFICATION:

Unclassified.

SYSTEM LOCATION:

The Division of Administration, FDIC, 550 17th Street NW, Washington, DC 20429, and FDIC Regional or area Offices. (See www.fdic.gov/about/contact/directory or Appendix A for the location of FDIC Regional Offices.) Duplicate systems may exist, in whole or in part, at secure sites and on secure servers maintained by third-party service providers for the FDIC.

SYSTEM MANAGER(S):

Chief, Security Operations, Security and Emergency Preparedness Section, Corporate Services Branch, Division of Administration, 3501 Fairfax Drive, Arlington, VA 22226.

* * * * *

ROUTINE USES OF RECORDS MAINTAINED IN THE SYSTEM, INCLUDING CATEGORIES OF USERS AND PURPOSES OF SUCH USES:

* * * * *

[Add routine use (12) as follows:]

(12) To Federal agencies, and to those Federal employees designated by the President or Agency Heads pursuant to Executive Order 14243, for the purposes of identifying and eliminating waste, fraud, and abuse, including the elimination of bureaucratic duplication and inefficiency and the enhancement of the Government's ability to detect overpayments and fraud.

* * * * *

HISTORY:

84 FR 35184 (Jul. 22, 2019).

FDIC-036

SYSTEM NAME AND NUMBER:

Ensuring Workplace Health and Safety in Response to a Public Health Emergency, FDIC-036.

SECURITY CLASSIFICATION:

Unclassified.

SYSTEM LOCATION:

Records are maintained at FDIC facilities in Arlington, Virginia and regional offices. Original and duplicate systems may exist, in whole or in part, at secure sites and on secure servers maintained by third-party service providers for the FDIC.

SYSTEM MANAGER(S):

Special Advisor to FDIC's Chief Operating Officer, 3501 Fairfax Drive, Arlington, VA 22226, healthandsafety@fdic.gov.

* * * * *

ROUTINE USES OF RECORDS MAINTAINED IN THE SYSTEM, INCLUDING CATEGORIES OF USERS AND PURPOSES OF SUCH USES:

* * * * *

[Add routine use (9) as follows:]

(9) To Federal agencies, and to those Federal employees designated by the President or Agency Heads pursuant to Executive Order 14243, for the purposes of identifying and eliminating waste, fraud, and abuse, including the elimination of bureaucratic duplication and inefficiency and the enhancement of the Government's ability to detect overpayments and fraud.

* * * * *

HISTORY:

86 FR 63384 (Nov. 16, 2021).

FDIC-037

SYSTEM NAME AND NUMBER:

FDITech Information, FDIC-037.

SECURITY CLASSIFICATION:

Unclassified.

SYSTEM LOCATION:

The system of records is located on the FDIC intranet. Duplicate systems may exist, in whole or in part, at secure sites and on secure servers maintained by third-party service providers for the FDIC.

SYSTEM MANAGER(S):

Chief Innovation Officer, 3501 N. Fairfax Drive, Arlington, VA 22226, innovation@fdic.gov.

* * * * *

ROUTINE USES OF RECORDS MAINTAINED IN THE SYSTEM, INCLUDING CATEGORIES OF USERS AND PURPOSES OF SUCH USES:

* * * * *

[Add routine use (8) as follows:]

(8) To Federal agencies, and to those Federal employees designated by the President or Agency Heads pursuant to Executive Order 14243, for the purposes of identifying and eliminating waste, fraud, and abuse, including the elimination of bureaucratic duplication and inefficiency and the enhancement of the Government's ability to detect overpayments and fraud.

* * * * *

HISTORY:

86 FR 68662 (Dec. 3, 2021).

FDIC-038

SYSTEM NAME AND NUMBER:

Failed Insured Depository Institution Research, FDIC-038.

SECURITY CLASSIFICATION:

Unclassified.

SYSTEM LOCATION:

Records are maintained at FDIC facilities in Arlington, VA, and regional offices. Original and duplicate systems may exist, in whole or in part, at secure sites and on secure servers maintained by third-party service providers for the FDIC.

SYSTEM MANAGER(S):

FDIC Business Data Services System Program Manager, Chief Information Officer Organization, FDIC, 550 17th Street NW, Washington, DC 20429.

* * * * *

ROUTINE USES OF RECORDS MAINTAINED IN THE SYSTEM, INCLUDING CATEGORIES OF USERS AND PURPOSES OF SUCH USES:

* * * * *

[Add routine use (6) as follows:]

(6) To Federal agencies, and to those Federal employees designated by the President or Agency Heads pursuant to Executive Order 14243, for the purposes of identifying and eliminating waste, fraud, and abuse, including the elimination of bureaucratic duplication and inefficiency and the enhancement of the Government's ability to detect overpayments and fraud.

* * * * *

HISTORY:

87 FR 29746 (May 16, 2022).

FDIC-039

SYSTEM NAME AND NUMBER:

E-Rulemaking, FDIC-039.

SECURITY CLASSIFICATION:

Unclassified.

SYSTEM LOCATION:

Records are maintained at FDIC facilities in Washington, DC; Arlington, VA; and regional offices. Original and duplicate systems may exist, in whole or in part, at secure sites and on secure servers maintained by third-party service providers for the FDIC.

SYSTEM MANAGER(S):

Legal Division, Office of the Executive Secretary, FDIC, 550 17th Street NW, Washington, DC 20429.

* * * * *

ROUTINE USES OF RECORDS MAINTAINED IN THE SYSTEM, INCLUDING CATEGORIES OF USERS AND PURPOSES OF SUCH USES:

* * * * *

[Add routine use (12) as follows:]

(12) To Federal agencies, and to those Federal employees designated by the President or Agency Heads pursuant to Executive Order 14243, for the purposes of identifying and eliminating waste, fraud, and abuse, including the elimination of bureaucratic duplication and inefficiency and the enhancement of the Government's ability to detect overpayments and fraud.

* * * * *

HISTORY:

87 FR 52776 (Sep. 2, 2022).

FDIC-040

SYSTEM NAME AND NUMBER:

Mailing, Event, and Other Contact Lists, FDIC-040.

SECURITY CLASSIFICATION:

Unclassified.

SYSTEM LOCATION:

Records are maintained at FDIC facilities in Arlington, Virginia and regional offices. Duplicate systems may exist, in whole or in part, at secure sites and on secure servers maintained by third-party service providers for the FDIC.

SYSTEM MANAGER(S):

Director, Division of Administration, 3501 Fairfax Drive, Arlington, VA 22226, MailingEventsContactLists@FDIC.gov.

* * * * *

ROUTINE USES OF RECORDS MAINTAINED IN THE SYSTEM, INCLUDING CATEGORIES OF USERS AND PURPOSES OF SUCH USES:

* * * * *

[Add routine use (7) as follows:]

(7) To Federal agencies, and to those Federal employees designated by the President or Agency Heads pursuant to Executive Order 14243, for the purposes of identifying and eliminating waste, fraud, and abuse, including the elimination of bureaucratic duplication and inefficiency and the enhancement of the Government's ability to detect overpayments and fraud.

* * * * *

HISTORY:

87 FR 66696 (Nov. 4, 2022).

FDIC-041

SYSTEM NAME AND NUMBER:

Personal Information Allowing Network Operations, FDIC-041.

SECURITY CLASSIFICATION:

Unclassified.

SYSTEM LOCATION:

Records are centrally maintained at FDIC, 550 17th Street NW, Washington, DC 20429. There are instances where records may be maintained at other secure locations, as well as on secure servers maintained by third-party service providers for the FDIC.

SYSTEM MANAGER(S):

Deputy Director, Infrastructure and Operations Services Branch, Division of Information Technology, FDIC, 3501 Fairfax Drive, Arlington, VA 22226.

* * * * *

ROUTINE USES OF RECORDS MAINTAINED IN THE SYSTEM, INCLUDING CATEGORIES OF USERS AND PURPOSES OF SUCH USES:

* * * * *

[Add routine use (12) as follows:]

(12) To Federal agencies, and to those Federal employees designated by the President or Agency Heads pursuant to Executive Order 14243, for the purposes of identifying and eliminating waste, fraud, and abuse, including the elimination of bureaucratic duplication and inefficiency and the enhancement of the Government's ability to detect overpayments and fraud.

* * * * *

HISTORY:

88 FR 27509 (May 2, 2023).

FDIC-042

SYSTEM NAME AND NUMBER:

Insider Risk Program Records, FDIC-042.

SECURITY CLASSIFICATION:

Unclassified and classified.

SYSTEM LOCATION:

The FDIC, located at 550 17th Street NW, Washington, DC 20429, and other FDIC office locations. Information may be stored within an appropriately authorized cloud environment or in other secure locations.

SYSTEM MANAGER(S):

Program Manager, Insider Risk (InR) Program, Division of Administration, FDIC, 550 17th Street NW, Washington, DC 20429.

* * * * *

ROUTINE USES OF RECORDS MAINTAINED IN THE SYSTEM, INCLUDING CATEGORIES OF USERS AND PURPOSES OF SUCH USES:

* * * * *

[Add routine use (13) as follows:]

(13) To Federal agencies, and to those Federal employees designated by the President or Agency Heads pursuant to Executive Order 14243, for the purposes of identifying and eliminating waste, fraud, and abuse, including the elimination of bureaucratic duplication and inefficiency and the enhancement of the Government's ability to detect overpayments and fraud.

* * * * *

HISTORY:

89 FR 70634 (Aug. 30, 2024).

Federal Deposit Insurance Corporation.
Dated at Washington, DC, on November 13, 2025.
Jennifer M. Jones,
Deputy Executive Secretary.

[FR Doc. 2025-19979 Filed 11-14-25; 8:45 am]

BILLING CODE 6714-01-P